DEPARTMENT OF HEALTH AND HUMAN SERVICES

Administration for Community Living

Paralysis Resource Center

Summary: The Administration for Community Living (ACL) is proud to announce the Paralysis Resource Center (PRC) is moving to ACL as a result of the 2014 budget recently signed by President Obama.

ACL was formed in April 2012 to advance policy and implement programs that support the rights of older Americans and people with disabilities to live in their communities throughout their lifespan. The mission of the PRC aligns perfectly with ACL's mission and provides the Administration with important new programmatic opportunities to help persons with physical disabilities as well as older adults and people with developmental disabilities.

The PRC provides a comprehensive, national source of information for people living with paralysis and their families to promote health, foster involvement in the community, and improve quality of life. Resources on spinal cord injury, paralysis and mobility-related disabilities, including information and referral by phone and email are available in English and Spanish. The PRC currently operates through a cooperative agreement between the Christopher & Dana Reeve Foundation and the U.S. Department of Health and Human Services (HHS) Centers for Disease Control and Prevention (CDC). ACL will be working with the CDC on transitioning the program to ACL.

Program Name: Paralysis Resource Center.

Award Amount: Up to $6,683,000.

Project Period: 6/1/2014 to 5/31/2015.

Award Type: Cooperative Agreement.

Statutory Authority: This program is authorized under Section 301 of the Public Health Service Act (42 U.S.C. 241, 247b(k)(2)).

Catalog of Federal Domestic Assistance (CFDA) Number: 93.325 Discretionary Projects.

Dates:

• Application Submission deadline: May 12, 2014.

• The anticipated budget period start date is June 1, 2014.

I. Program Description

The purpose of the program is to provide funding to support a national Paralysis Resource Center to improve the health and quality of life of individuals living with paralysis and their families by raising awareness of and facilitating access to a broad range of services relevant to individuals with paralysis. The Paralysis Resource Center will work to remove environmental barriers to health for individuals living with paralysis and expand the knowledge base of proven, successful health promotion strategies leading to improved physical and emotional health for this population, improving the understanding of the true burden of paralysis by disease category, injury, and quality of life indicators and to measure secondary complications, and conducting evaluation projects to translate clinical rehabilitation treadmill therapy to community-based settings and training health care professionals to deliver this intervention. This program addresses the “Healthy People 2020” focus area(s): Access to Health Services; Adolescent Health; Disability and Health; Early and Middle Childhood; Educational and Community-Based Programs; Health Communication and Health IT; Healthcare-Associated Infections; Nutrition and Weight Status; Older Adults; Physical Activity and Fitness; Quality of Life and Well-Being; Social Determinants of Health; and Tobacco Use.

Justification for the Exception to Competition

The PRC currently operates through a cooperative agreement between the Christopher & Dana Reeve Foundation and the U.S. Department of Health and Human Services (HHS) Centers for Disease Control and Prevention (CDC). To ensure uninterrupted continuation of the grant goals and objectives and given the administrative burden of holding an open competition and awarding a new grant given the short time since the funds were appropriated, ACL will award a one year continuation to the incumbent Paralysis Resource Center at the Christopher & Dana Reeve Foundation. Failure to move forward with this deviation would disrupt ACL's ability to improve and advance the PRC program as one cohesive and consistent program nationally.

• Eligible Applicants: Incumbent Paralysis Resource Center with award expiration date of 5/31/14.

II. Evaluation Criteria

Information previously provided in semi-annual reports, as well as information in the non-competing extension application will be considered to determine satisfactory progress of the grantee project and ensure that proposed activities are within the approved scope and budget of the grant. Areas that will be evaluated include:

A. Project Relevance & Current Need.

B. Approach.

C. Budget.

D. Project Impact.

E. Organizational Capacity.

III. Application and Submission Requirements

A. SF 424—Application for Federal Assistance.

B. SF 424A—Budget Information.

C. Separate Budget Narrative/Justification.

D. SF 424B—Assurances. Note: Be sure to complete this form according to instructions.

E. Lobbying Certification.

F. Program narrative—no more than 10 pages.

• The project narrative must be submitted to GrantSolutions. The narrative must be submitted in the following format:

• Maximum number of pages: 10—If the narrative exceeds the page limit, only the first pages which are within the page limit will be reviewed.

• Font size: 12 point unreduced; Times New Roman is preferred.

• Double spaced.

• Page margin size: One inch.

• Number all narrative pages; not to exceed the maximum number of pages.

• Include a table of contents.

• Application should be submitted through Grantsolutions at www.grantsolutions.gov.

The narrative should address activities to be conducted over the entire project period and must include the following items in the order listed:

i. Plan.

ii. Methods.

iii. Objectives.

iv. Timeline.

v. Staff.

vi. Understanding.

vii. Need.

viii. Evaluation and Performance Measures.

The budget and budget justification will be included as a separate attachment, not to be counted in the narrative page limit. Additional information may be included in the application appendices. The appendices will not be counted toward the narrative page limit. This additional information includes:

• Curriculum Vitae, Resumes, Organizational Charts, and Letters of Support. Additional information submitted via GrantSolutions.gov should be uploaded in a PDF file format, and should be named as appropriate, such as publications, reports, etc.

• No more than 15 attachments should be uploaded per application.

G. Work Plan.

H. Grantees will be required to access the non-competing application kit in GrantSolutions.gov to submit all materials for this application.

IV. Application Review Information

Applications will be objectively reviewed by Federal staff utilizing the evaluation criteria listed above in Section II.

V. Agency Contact

For further information or comments regarding this program expansion supplement, contact Ophelia M. McLain, U.S. Department of Health and Human Services, Administration for Community Living, Administration on Intellectual and Developmental Disabilities, Office of Innovation, One Massachusetts Avenue NW., Washington, DC 20001; telephone (202) 690-7025; fax (202) 357-3560; email Ophelia.McLain@acl.hhs.gov.

Dated: April 8, 2014.
Kathy Greenlee,
Administrator and Assistant Secretary for Aging.

[FR Doc. 2014-08195 Filed 4-10-14; 8:45 am]

BILLING CODE 4154-01-P